NATIONAL AERONAUTICS AND SPACE ADMINISTRATION

[Notice: (07-055)]

Notice of Centennial Challenges 2007 Tether Challenge

AGENCY: National Aeronautics and Space Administration (NASA).

ACTION: Notice of Centennial Challenges 2007 Tether Challenge

SUMMARY: This notice is issued in accordance with 42 U.S.C. 2451 (314) (d). The 2007 Tether Challenge is now scheduled, and teams that wish to compete may now register. The NASA Centennial Challenges Program is a program of prize contests to stimulate innovation and competition in space exploration and ongoing NASA mission areas. The 2007 Tether Challenge is a prize contest designed to develop very strong tether material for use in various structural applications. The 2007 Tether Challenge is being administered for NASA by the Spaceward Foundation. Their Web site is: http://www.spaceward.org. The Centennial Challenges Web site is http://www.centennialchallenges.nasa.gov.

DATES: The 2007 Tether Challenge will be held on the dates of October 19-21, 2007.

ADDRESSES: The location of the 2007 Tether Challenge will be held at the Davis County Event Center just outside of Salt Lake City, Utah. Questions and comments regarding the NASA Centennial Challenges Program should be addressed to Mr. Ken Davidian, Centennial Challenges Program, Innovative Partnerships Program Office, NASA Headquarters, 20546-0001.

FOR FURTHER INFORMATION CONTACT: Mr. Ken Davidian, Centennial Challenges Program, Innovative Partnerships Program Office, NASA Headquarters, 20546-0001, (202) 358-0748, kdavidian@nasa.gov. To register for and get additional information regarding the 2007 Tether Challenge, visit: http://www.elevator2010.org/site/competitionTether2007.html.

SUPPLEMENTARY INFORMATION:

Summary

The purpose of the 2007 Tether Challenge is to develop very strong tether material for use in various structural applications. The competition requires a 50% improvement in breaking force from year to year, starting with a commercially available tether in 2006. Additional requirements (such as operating temperature range, vacuum compatibility, and controlled electrical conductivity) will be added in future years.

I. Challenge Basis and Prize Amount

The complete 2007 Tether Challenge purse is $500,000. The 2007 Tether Challenge will be conducted in two rounds. The first round will pit tethers from two teams directly against each other to determine the team with the strongest tether. The second round will determine if the first-round winner(s) is/are at least 50% stronger than a house tether that represents off-the-shelf materials. If it is (or they are), that/those team(s) will win the competition and share the prize purse.

II. Eligibility

The Centennial Challenges Program has established the following language in the 2007 Tether Challenge Team Agreement governing eligibility. For this section, challenge is the 2007 Tether Challenge.

A team is an individual or private entity, or a group of individuals or private entities, that register to participate in challenge. A team is comprised of a team leader and team members. A team leader is, by definition, also a team member.

Team members are participants on the team that are not the team leader. To be eligible to win the challenge prize, an individual or entity, (a) In the case of a private entity, shall be incorporated in and maintain a primary place of business in the United States, and (b) in the case of an individual, whether participating individually or as a member of a group, shall be a citizen or permanent resident of the United States.

A team leader is a single private entity or individual which is the sole agent representing a team regarding its participation in challenge. In the case of the team leader that is a private entity, it must appoint an individual who is an officer of the private entity to represent the team leader. All team members will apply to register for the challenge through team leader and must receive written concurrence by Spaceward.

All team members must execute an “Adoption of Agreement” committing to all terms of this agreement. By signing below, team leader represents that all team members have executed the Adoption of Agreement and that no one else will become a member of the team or participate in the challenge until such new team member has signed this agreement. Spaceward may disqualify any team if it discovers that a person is acting as a team member who has not signed this agreement. Team leader will provide Spaceward with a copy of the “Adoption of Agreement” signed by each team member.

Any U.S. Government organization or organization principally or substantially funded by the Federal Government, including Federally Funded Research and Development Centers, Government-owned, contractor operated (GOCO) facilities, and University Affiliated Research Centers, are ineligible to be a team leader or team member.

Rules

The rules for the 2007 Tether Challenge can be found at: http://www.elevator2010.org/site/competitionTether2007.html.

Dated: July 31, 2007.
Douglas A. Comstock,
Director, Innovative Partnerships Program Office.

[FR Doc. E7-15518 Filed 8-8-07; 8:45 am]

BILLING CODE 7510-13-P